ENVIRONMENTAL PROTECTION AGENCY

[ER-FRL-9038-1]

Environmental Impact Statements; Notice of Availability

Responsible Agency: Office of Federal Activities, General Information (202) 564-7156 or http://www2.epa.gov/nepa.

Weekly receipt of Environmental Impact Statements filed 02/26/2018 Through 03/02/2018 pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180031, Draft, BLM, UT, Greater Chapita Wells Natural Gas Infill Project, comment period ends: 04/23/2018, Contact: Stephanie Howard 435-781-4469.

EIS No. 20180032, Final, FTA, IN, West Lake Corridor Project Final Environmental Impact Statement/Record of Decision and Section 4(f) Evaluation. Under 23 U.S.C. 139(n)(2), FTA has issued a single document that consists of a final environmental impact statement and record of decision. Therefore, the 30-day wait/review period under NEPA does not apply to this action. Contact: Mark Assam 206-220-4465.

EIS No. 20180033, Final, USFS, OR, Hwy 46, review period ends: 04/23/2018, Contact: Lynise Medley 503-854-4228.

EIS No. 20180034, Draft, USFS, ID, Hungry Ridge Restoration Project, comment period ends: 04/23/2018, Contact: Jennie Fischer 208-983-4048.

EIS No. 20180035, Final, DC, AK, Mertarvik Infrastructure Development Final EIS, review period ends: 04/09/2018, Contact: Don Antrobus 907-271-3500.

Amended Notices

EIS No. 20180028, Final, Caltrans, CA, ~VOIDED~ State Route 269 Bridge Project, review period ends: 09/03/2018, Contact: Jeff Sorensen 559-445-5329. This final environmental assessment was inadvertently filed and published in 03/02/2018 FR.

Dated: March 7, 2018.
Kelly Knight,
Director, NEPA Compliance Division, Office of Federal Activities.

[FR Doc. 2018-04884 Filed 3-8-18; 8:45 am]

BILLING CODE 6560-50-P